NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 21, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Farm Service Agency (N1-145-12-1, 3 items, 3 temporary items). Records related to the administration of the Government Performance and Results Act.

2. Department of the Army, Agency-wide (N1-AU-10-103, 20 items, 20 temporary items). Master files of several electronic information systems used to track procurement actions in support of force deployments.

3. Department of Commerce, Bureau of the Census (N1-29-11-1, 31 items, 27 temporary items). Records of the Foreign Trade Division such as foreign trade procedures memorandums, periodic division reports, and data processing records such as system processing files, import/export trade statistical operations production processing records, and final net level data files. Proposed for permanent retention are foreign trade data reports and products, research project planning files, and subject files maintained by the Division Chief and Deputy Division Chief.

4. Department of Defense, Defense Commissary Agency (N1-506-10-1, 5 items, 5 temporary items). Web content and management records related to the agency's internal and external Web sites.

5. Department of Defense, Defense Commissary Agency (N1-506-11-1, 13 items, 13 temporary items). Records relating to the agency's environmental management program. Included are records related to monitoring, compliance, management review, planning, procedures, organizational structure, and communications.

6. Department of Defense, Defense Contract Management Agency (N1-558-10-9, 27 items, 22 temporary items). Records related to corporate-level operations and mission-related programs. Included are management control plans, international program correspondence files, foreign visitor records, internal reviews, records of terminated audits, budget and procurement records, and non-mandatory agency instructions. Proposed for permanent retention are records of significant high-level decisions and actions, records of high-level oversight reviews, and mandatory mission-related agency instructions.

7. Department of Defense, Defense Finance and Accounting Service (DAA-0507-2013-0002, 1 item, 1 temporary item). Forms, rosters, agendas, handouts, and similar records pertaining to conference planning.

8. Department of Defense, Defense Logistics Agency (DAA-0361-2013-0002, 1 item, 1 temporary item). Master files of an electronic information system that manages reimbursements and other miscellaneous payments.

9. Department of Defense, Office of the Secretary of Defense (DAA-0330-2013-0005, 1 item, 1 temporary item). Master files of an electronic information system used to track sexual assault cases.

10. Department of Homeland Security, Agency-wide (DAA-0563-2013-0001, 11 items, 11 temporary items). Records of the department and its component agencies including biometric and limited biographic information used for national security, law enforcement, immigration, and other mission-related functions.

11. Department of Homeland Security, U.S. Coast Guard (DAA-0026-2013-0002, 3 items, 3 temporary items). Minutes, annual reports, and district office data for Harbor Safety Committees.

12. Department of Homeland Security, U.S. Coast Guard (DAA-0026-2013-0004, 4 items, 4 temporary items). Records of seamen licensing and certification examinations.

13. Department of Homeland Security, U.S. Coast Guard (DAA-0026-2013-0005, 4 items, 4 temporary items). Master files of an electronic information system supporting vessel security activities and operations planning and monitoring.

14. Department of Homeland Security, U.S. Coast Guard (DAA-0026-2013-0006, 2 items, 2 temporary items). Credentialing and training records related to health care administration.

15. Department of State, Bureau of Economic and Business Affairs (DAA-0059-2013-0001, 4 items, 2 temporary items). License and export recommendation case files. Proposed for permanent retention are policy files.

16. Department of State, Bureau of Educational and Cultural Affairs (DAA-0059-2012-0003, 5 items, 4 temporary items). Records of the Office of Global Educational Programs, including grant files, reference files, and informational publications. Proposed for permanent retention is the office's annual statistical publication.

17. Department of State, Bureau of Political-Military Affairs (N1-59-11-16, 9 items, 5 temporary items). Records of the Office of Weapons Removal and Abatement including background and reference materials, working files, grant files, and general correspondence. Proposed for permanent retention are publications, policy files, project files, and interagency working group files.

18. Consumer Financial Protection Bureau, Agency-wide (N1-587-12-13, 7 items, 5 temporary items). Records of the Legal Division including memorandums, hearing files, and administrative records. Proposed for permanent retention are historically significant memorandums and hearing files.

19. Environmental Protection Agency, Office of Water (DAA-0412-2013-0003, 2 items, 1 temporary item). Inputs of an electronic information system used for the regulation of wells. Proposed for permanent retention are the master files of the electronic information system.

20. Federal Reserve System, Agency-wide (DAA-0082-2013-0001, 2 items, 2 temporary items). Routine security surveillance and identification card records.

21. Office of the Director of National Intelligence, Office of the Program Manager of the Information Sharing Environment (N1-576-11-10, 11 items, 3 temporary items). Records include Web sites and non-substantive drafts and working papers. Proposed for permanent retention are implementation plans, final reports and sharing agreements, daily calendars, external speeches and briefings, records of boards and working groups, legislation recommendations to Congress, and substantive working papers.

Dated: May 14, 2013.
Paul M. Wester, Jr.,
Chief Records Officer for the U.S. Government.

[FR Doc. 2013-12210 Filed 5-21-13; 8:45 am]

BILLING CODE 7515-01-P